EXPORT-IMPORT BANK OF THE U.S.

[Public Notice 2011-0010]

Agency Information Collection Activities: Comment Request

AGENCY: Export-Import Bank of the U.S.

ACTION: Submission for OMB Review and Comments Request.

Form Title: Notice of Claim and Proof of Loss, Medium Term Guarantee.

SUMMARY: The Export-Import Bank of the United States (“Ex-Im Bank”) is the official export credit agency of the United States. Its mission is to create and sustain U.S. jobs by financing U.S. exports through direct loans, guarantees, insurance and working capital credits. By neutralizing the effect of export credit support offered by foreign governments and by absorbing credit risks that the private sector will not accept, Ex-Im Bank enables U.S. exporters to compete fairly in foreign markets on the basis of price and product. Under the Medium Term Guarantee Program, Ex-Im Bank provides guarantees of principal and interest on floating or fixed-rate loans by eligible lenders to credit worthy buyers of US goods and services. The guarantee covers the repayment risks on the foreign buyer's debt obligations. Ex-Im Bank guarantees that, in the event of a payment default by the borrower, it will repay the lender the outstanding principal and interest on the loan.

In the event that a borrower defaults on a transaction guaranteed by Ex-Im Bank the guaranteed lender may seek payment by the submission of a claim. This collection of information is necessary, pursuant to 12 USC 635(a)(1), to determine if such claim complies with the terms and conditions of the relevant guarantee agreement.

This form can be reviewed http://www.exim.gov\pub\pending\EIB10_05.pdf

DATES: Comments should be received on or before (insert 30 days after publication) to be assured of consideration.

ADDRESSES: Comments may be submitted electronically on http://www.regulations.gov or by mail to Office of Information and Regulatory Affairs, 725 17th Street, NW. Washington, DC 20038 attn: OMB 3048-NEW.

SUPPLEMENTARY INFORMATION:

Titles and Form Number: Notice of Claim and Proof of Loss, Medium Term Guarantee (EIB 10-05).

OMB Number: 3048-XXXX.

Type of Review: New.

Need and Use: This collection provides Ex-Im Bank staff with the information necessary to process the filing of a claim for a defaulted transaction under Ex-Im Bank's Medium Term Guarantee program.

Number of respondents: 65.

Sharon A. Whitt,
Agency Clearance Officer.

[FR Doc. 2011-2037 Filed 1-28-11; 8:45 am]

BILLING CODE 6690-01-P